DEPARTMENT OF LABOR

Employment and Training Administration

[TA-W-74,671]

Hewlett Packard Global Parts Supply Chain, Global Product Life Cycles Management Unit Including Teleworkers Reporting to Houston, TX; Notice of Termination of Certification

This notice terminates the Certification Regarding Eligibility to Apply for Worker Adjustment Assistance issued by the Department on November 8, 2010 for all workers of Hewlett Packard, Global Parts Supply Chain, Global Product Life Cycles Management Unit, including teleworkers reporting to Houston, Texas (subject worker group). The notice was published in the Federal Register on November 23, 2010 (75 FR 71460).

On June 6, 2011, the Department issued a Notice of Intent to Terminate Certification Regarding Eligibility to Apply for Worker Adjustment Assistance applicable to workers and former workers of the subject worker group. The Department's Notice of Intent to Terminate Certification was published in the Federal Register on June 13, 2011 (76 FR 34271).

The Department has not received any written comments from the group of workers or any persons showing a substantial interest in the termination of the certification issued under TA-W-74,671, pursuant to 29 CFR 90.17(b).

Since eligible workers of Hewlett Packard, Global Parts Supply Chain, Global Product Life Cycles Management Unit, including teleworkers reporting to Houston, Texas (TA-W-74,671) who have not yet received TAA benefits will be eligible to apply for these benefits under TA-W-74,466I, a certification issued two months before TA-W-74,671, the Department is terminating the later certification. It is the Department's intent to terminate the latter certification to correct the duplicate coverage of eligible workers and the possibility of unintended duplication of benefits.

Consequently, the certification issued under investigation TA-W-74,671 has been terminated.

Signed in Washington, DC, this 1st day of July, 2011.
Del Min Amy Chen,
Certifying Officer, Office of Trade Adjustment Assistance.

[FR Doc. 2011-17670 Filed 7-13-11; 8:45 am]

BILLING CODE 4510-FN-P